DEPARTMENT OF DEFENSE

Office of the Secretary

Defense Policy Board; Notice of Federal Advisory Committee Meeting

AGENCY: Under Secretary of Defense for Policy, Department of Defense.

ACTION: Notice of Federal Advisory Committee meeting.

SUMMARY: The Department of Defense (DoD) is publishing this notice to announce that the following Federal Advisory Committee meeting of the Defense Policy Board (DPB) will take place. This meeting will be closed to the public.

DATES:

Day 1—Closed to the public Monday, June 17, 2019 from 8:10 a.m. to 5:00 p.m.

Day 2—Closed to the public Tuesday, June 18, 2019 from 8:00 a.m. to 12:00 p.m.

ADDRESSES: The closed meeting will be held at The Pentagon, 2000 Defense Pentagon, Washington, DC 20301-2000.

FOR FURTHER INFORMATION CONTACT: Monica Bacheler, (703) 571-9234 (Voice), 703-697-8606 (Facsimile), monica.t.bacheler.civ@mail.mil (Email). Mailing address is 2000 Defense Pentagon, Washington, DC 20301-2000.

SUPPLEMENTARY INFORMATION: Due to circumstances beyond the control of the Department of Defense (DoD) and the Designated Federal Officer, the Defense Policy Board was unable to provide public notification required by 41 CFR 102-3.150(a) concerning its June 17 through 18, 2019 meeting of the Defense Policy Board. Accordingly, the Advisory Committee Management Officer for the Department of Defense, pursuant to 41 CFR 102-3.150(b), waives the 15-calendar day notification requirement.

This meeting is being held under the provisions of the Federal Advisory Committee Act (FACA) (5 U.S.C., App.), the Government in the Sunshine Act (“the Sunshine Act”) (5 U.S.C. 552b), and the General Services Administration's Federal Advisory Committee Management; Final Rule (“the FACA Final Rule”) (41 CFR 101-6 and 102-3).

Purpose of the Meeting: To obtain, review, and evaluate classified information related to the DPB's mission to advise on (a) issues central to strategic DoD planning; (b) policy implications of U.S. force structure and force modernization and on DoD's ability to execute U.S. defense strategy; (c) U.S. regional defense policies; and (d) other research and analysis of topics raised by the Secretary of Defense, the Deputy Secretary of Defense, or the Under Secretary of Defense for Policy.

Agenda: On June 17 and 18, the DPB will have Secret level or higher discussions on national security issues regarding competition below armed conflict. On June 17, topics and speakers include: (1) An intel community baseline from the Defense Intelligence Agency and Central Intelligence Agency of actions in this space; (2) think tank perspectives from Mike Mazaar at RAND and Ambassador James Herbst from the Atlantic Council; (3) policy perspectives from Owen West, David Helvey and Laura Cooper of the Office of the Secretary of Defense for Policy; (4) Joint Staff, J5 perspectives on what they are seeing on the ground and what plans and tools are being employed to counter operations in this space; (5) Admiral Munsch from the Navy N3/N5 will offer his perspectives; (6) Mr. Vayl Oxford from DTRA will provide insights on their work in this space; and (8) Mr. Shawn Powers will discuss public messaging from the perspective of the U.S. Global Agency for Global Media and DoD, State Public Affairs, and the National Security Council will provide their points of view on messaging. On June 18 the DPB will deliberate on 5G and competition below armed conflict recommendations and report out on the same to the Acting Secretary of Defense, Patrick Shanahan.

Meeting Accessibility: In accordance with section 10(d) of the FACA, and the FACA Final Rule (41 CFR 102-3.155), the DoD has determined that this meeting shall be closed to the public. The Under Secretary of Defense (Policy), in consultation with the DoD FACA Attorney, has determined in writing that this meeting be closed to the public because the discussions fall under the purview of Section 552b(c)(1) of the Sunshine Act and are so inextricably intertwined with unclassified material that they cannot reasonably be segregated into separate discussions without disclosing secret or higher classified material.

Committee's Designated Federal Officer or Point of Contact: Monica Bacheler, monica.t.bacheler.civ@mail.mil.

Written Statements: In accordance with to 41 CFR 102-3.105(j) and 102-3.140(c) and section 10(a)(3) of the FACA, the public or interested organizations may submit written statements to the membership of the DPB at any time regarding its mission or in response to the stated agenda of a planned meeting. Written statements should be submitted to the DPB's Designated Federal Officer (DFO), which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: May 30, 2019.
Aaron T. Siegel,
Alternate OSD Federal Register Liaison Officer, Department of Defense.

[FR Doc. 2019-11628 Filed 6-4-19; 8:45 am]

BILLING CODE 5001-06-P